DEPARTMENT OF DEFENSE

Office of the Secretary

Defense Science Board

AGENCY: Department of Defense.

ACTION: Notice of Advisory Committee meeting date change.

SUMMARY: On Monday, October 4, 2004 (69 FR 59214) the Department of Defense announced closed meetings of the Defense Science Board (DSB) Task Force on December 9-10, 2004, at the Institute for Defense Analyses, 4850 Park Center Drive, Alexandria, VA. These meetings will now be held at Strategic Analysis Inc., 3601 Wilson Boulevard, Suite 500, Arlington, VA.

Dated: November 29, 2004.
Jeannette Owings-Ballard,
OSD Federal Register Liaison Officer, Department of Defense.

[FR Doc. 04-28260 Filed 12-27-04; 8:45 am]

BILLING CODE 5001-06-M